COMMISSION ON CIVIL RIGHTS

Sunshine Act Notice

AGENCY: United States Commission on Civil Rights.

ACTION: Notice of briefing and meeting.

DATE AND TIME: Friday, June 11, 2010; 9:30 a.m. EDT.

PLACE: 624 9th St., NW., Room 540, Washington, DC 20425.

Briefing Agenda

The briefing is open to the public.

Topic: Age Discrimination in Employment in the Current Economic Crisis

I. Introductory Remarks by Chairman

II. Speakers' Presentations

III. Questions by Commissioners and Staff Director

IV. Adjourn Briefing

Meeting Agenda

This meeting is open to the public.

I. Approval of Agenda

II. Program Planning

• Approval of Recommendations #2 and #3—Educational Effectiveness of Historically Black Colleges & Universities Briefing Report

• Approval of the Briefing Report—Encouraging Minority Students to Pursue Science, Technology, Engineering, and Math (STEM) Careers

• Approval of 2011 Business Meeting Calendar

• NBPP Enforcement Project—Some of the discussion of this agenda item may be held in closed session.

• Title IX Project—Some of the discussion of this agenda item may be held in closed session.

• Discussion of Concept Paper on Attack against Asian-American Students at South Philadelphia High School

III. Staff Director's Report

IV. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at (202) 376-8105. TDD: (202) 376-8116.

Dated: June 1, 2010.
David Blackwood,
General Counsel.

[FR Doc. 2010-13465 Filed 6-1-10; 4:15 pm]

BILLING CODE 6335-01-P